DEPARTMENT OF ENERGY

Federal Energy Regulatory Commission

[Docket No. RP01-350-014]

Colorado Interstate Gas Company; Notice of Petition To Amend Stipulation and Agreement

June 2, 2006.

Take notice that on May 26, 2006, Colorado Interstate Gas Company (CIG) filed a Petition to Amend Stipulation and Agreement approved in Docket No. RP01-350-000,et al., on August 5, 2002 ¹ and previously amended on February 17, 2006 and April 12, 2006.²

¹ Colorado Interstate Gas Co., 100 FERC ¶ 61,154 (2002).

² Colorado Interstate Gas Co., 114 FERC ¶ 61,173 (2006); Colorado Interstate Gas Co., 115 FERC 61,039 (2006).

CIG requests the Commission to grant the petition to allow the parties to conclude settlement discussions that would obviate the requirement for CIG to file a system-wide rate change under section 4 of the Natural Gas Act.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 5, 2006.

Magalie R. Salas,
Secretary.

[FR Doc. E6-9090 Filed 6-9-06; 8:45 am]

BILLING CODE 6717-01-P